Title 3—

The President

Proclamation 7884 of April 5, 2005

Cancer Control Month, 2005

By the President of the United States of America

A Proclamation

We are making great gains in the fight against cancer. Advances in prevention, early detection, and treatment are reducing cancer rates and increasing the likelihood of survival. Despite this progress, cancer remains the second leading cause of death in America. During Cancer Control Month, we continue to work to learn more about cancer prevention and detection, promote efforts to find better treatments and a cure, and support cancer patients, survivors, and their families.

A healthy lifestyle can lower the risk of developing certain types of cancer. This year, the Department of Health and Human Services released new Dietary Guidelines for Americans 2005, which emphasize reducing caloric intake, eating healthy foods, and increasing physical activity. I encourage all Americans to follow these guidelines, to use sunscreen and limit exposure to the sun, and to avoid tobacco and alcohol abuse. I also urge citizens to talk with their doctors about their cancer risk and to get regular check-ups and preventive screenings. Detecting cancer early increases survival rates and saves lives.

There are nearly 9.8 million cancer survivors in the United States today because of advances in health care. Aggressive funding will lead scientists to earlier diagnoses and improved treatments for lung, colorectal, and other cancers. My Administration proposed more than $5.6 billion for cancer prevention, treatment, and research through the National Institutes of Health in my fiscal year 2006 budget. These funds will help scientists learn more about this devastating disease and offer new hope for countless Americans and their families.

As we observe this month, we honor cancer survivors for their inspiring examples of courage, steadfast strength, and willingness to share their stories and experiences with others. We recognize the families, friends, and loved ones who support and encourage those living with cancer. And we remain grateful to our scientists and medical professionals, who make America's health care system the best in the world. Together, we can help all our citizens live healthier, longer lives.

In 1938, the Congress of the United States passed a joint resolution (52 Stat. 148; 36 U.S.C. 103) as amended, requesting the President to issue an annual proclamation declaring April as “Cancer Control Month.”

NOW, THEREFORE, I, GEORGE W. BUSH, President of the United States of America, do hereby proclaim April 2005 as Cancer Control Month. I encourage citizens, government agencies, private businesses, nonprofit organizations, and other interested groups to join in activities that raise awareness about how all Americans can prevent and control cancer.

IN WITNESS WHEREOF, I have hereunto set my hand this fifth day of April, in the year of our Lord two thousand five, and of the Independence of the United States of America the two hundred and twenty-ninth.

B

[FR Doc. 05-7261

Filed 4-7-05; 8:45 am]

Billing code 3195-01-P